DEPARTMENT OF DEFENSE

Office of the Secretary

[Transmittal No. 18-0F]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 18-0F with attached Policy Justification.

Dated: June 7, 2019.
Aaron T. Siegel,
Alternate OSD Federal Register Liaison Officer, Department of Defense.

BILLING CODE 5001-06-P

BILLING CODE 5001-06-C

Transmittal No. 18-0F

Report of Enhancement or Upgrade of Sensitivity of Technology or Capability (Sec. 36(B)(5)(C), AECA)

(i) Purchaser: Government of Bahrain.

(ii) Sec. 36(b)(1), AECA Transmittal No.: 16-36.

Date: April 27, 2018

Military Department: Navy

(iii) Description: On April 27, 2018, Congress was notified by Congressional certification transmittal number 16-36 of the possible sale under Section 36(b)(1) of the Arms Export Control Act of twelve (12) AH-1Z Attack Helicopters; twenty-six (26) T-700 GE 401C Engines (twenty-four (24) installed and two (2) spares); fourteen (14) AGM-114 Hellfire Missiles; fifty-six (56) Advance Precision Kill Weapon System II (APKWS-II) WGU-59B; fifteen (15) Honeywell Embedded Global Positioning System (GPS) Inertial Navigation System (INS) (EGI) w/Standard Positioning Service (SPS) (including three (3) spares), twelve (12) Joint Mission Planning Systems, twelve (12) M197 20mm gun systems, thirty (30) Tech Refresh Mission Computers, fourteen (14) AN/AAQ-30 Target Sight Systems, twenty six (26) Helmet Mounted Display/Optimized Top Owl, communication equipment, electronic warfare systems, fifteen (15) APX-117 Identification Friend or Foe (IFF), fifteen (15) AN/AAR-47 Missile Warning Systems, fifteen (15) AN/ALE-47 Countermeasure Dispenser Sets, fifteen (15) APR-39C(V)2 Radar Warning Receivers, support equipment, spare engine containers, spare and repair parts, tools and test equipment, technical data and publications, personnel training and training equipment, U.S. government and contractor engineering, technical, and logistics support services, and other related elements of logistics and program support. The estimated cost was $912 million. Major Defense Equipment (MDE) constituted $491 million of this total.

This transmittal reports the addition of operational weapons to include one hundred forty-four (144) AGM-114 Hellfire Missiles; twelve (12) M36E9 Hellfire Captive Air Training Missiles (CATM); twelve (12) M34 Hellfire dummy missiles; six hundred two (602) Advance Precision Kill Weapon System II (APKWS-II) WGU-59B Guidance Sections; eight hundred twenty-six (826) MK-66 rocket motors; eight hundred twenty-six (826) MK-152 rocket warheads; fifty-six hundred (5,600) rounds of PGU-27 20mm ammunition; Operational chaff, Decoy Flares, and Impulse Cartridges. The total notified MDE value will increase by $42 million to $533 million, and the total notified case value will be $960 million.

(iv) Significance: This proposed sale of operational weapons will contribute to Bahrain's ability to use their AH-1Z's for defense and participation in coalition operations, and enhance its interoperability with the United States and NATO members.

(v) Justification: This proposed sale will support the foreign policy and national security of the United States by helping to improve the security of a Major Non-NATO Ally in developing and maintaining a strong and ready self-defense capability. This proposed sale will enhance U.S. national security objectives in the region.

(vi) Sensitivity of Technology

1. The AGM-114 Hellfire II Semi-Active Laser (SAL) Missiles are rail-launched guided missiles developed and produced by Lockheed Martin. The guidance system employs a SAL seeker. The SAL missile homes in on the laser energy reflected off a target that has been illuminated by a laser designator. The laser can be on either the launch platform or another platform that can be separated from it by several kilometers. The target sets are armor, bunkers, caves, enclosures, boats, and enemy personnel. The weapon system hardware, as an “All Up Round,” is UNCLASSIFIED. The highest level of classified information to be disclosed regarding the AGM-114 Hellfire II missile software is SECRET. The highest level of classified information that could be disclosed by a proposed sale or by testing of the end item is SECRET and the highest level that must be disclosed for production, maintenance, or training is CONFIDENTIAL.

2. The APKWS is a low-cost semi-active laser guidance kit developed by BAE Systems, which converts unguided 2.75 inch (70 mm) rockets into precision laser-guided rockets. The classification is up to SECRET.

(vii) Date Report Delivered to Congress: April 15, 2019.

[FR Doc. 2019-12379 Filed 6-11-19; 8:45 am]

BILLING CODE 5001-06-P